DEPARTMENT OF HEALTH AND HUMAN SERVICES

National Institutes of Health

Center for Scientific Review; Amended Notice of Meeting

Notice is hereby given of a change in the meeting of the Center for Scientific Review Special Emphasis Panel, March 27, 2020, 11:00 a.m. to March 27, 2020, 04:00 p.m., National Institutes of Health, Rockledge II, 6701 Rockledge Dr., Bethesda, MD, 20892 which was published in the Federal Register on March 09, 2020, 85 FR 13668.

The format of the Special Emphasis Panel: Member Conflict: Auditory Neuroscience and Learning and Memory has been changed to a Telephone Assisted Meeting. The meeting date, time and location remain the same. The meeting is closed to the public.

Dated: March 17, 2020.
Miguelina Perez,
Program Analyst, Office of Federal Advisory Committee Policy.

[FR Doc. 2020-05966 Filed 3-20-20; 8:45 am]

BILLING CODE 4140-01-P